DEPARTMENT OF THE INTERIOR

Fish and Wildlife Service

[FWS-R8-ES-2017-N131; FXES11130800000-178-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before November 29, 2017.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624; email: daniel_marquez@fws.gov).

SUPPLEMENTARY INFORMATION: The following applicants have applied for scientific research permits to conduct certain activities with endangered species under section 10(a)(1)(A) of the Act (16 U.S.C. 1531 et seq.). We seek review and comment from local, State, and Federal agencies and the public on the following permit requests:

Applicants

Permit No. TE-212445

Applicant: Robert Schell, San Rafael, California

The applicant requests a permit renewal and amendment to take (capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (capture, handle, take tissue samples, and release) the California tiger salamander (Santa Barbara County and Sonoma County Distinct Population Segments (DPS)) (Ambystoma californiense) in conjunction with survey and research activities throughout the range of the species in California for the purpose of enhancing the species' survival.

Permit No. TE-040553

Applicant: Daniel A. Marschalek, San Diego, California

The applicant requests a permit renewal to take the Quino checkerspot butterfly (Euphydryas editha quino) and Laguna Mountains skipper (Pyrgus ruralis lagunae) in conjunction with survey activities throughout the range of each species in California for the purpose of enhancing the species' survival.

Permit No. TE-34126C

Applicant: Francesca A. Cannizzo, Fresno, California

The applicant requests a new permit to take (capture, handle, and release) the California tiger salamander (central California DPS (Ambystoma californiense)) and take (capture, handle, release, collect vouchers, and collect branchiopod cysts) the Conservancy fairy shrimp (Branchinecta conservatio) and vernal pool tadpole shrimp (Lepidurus packardi) in conjunction with survey activities throughout the range of the species in California for the purpose of enhancing the species' survival.

Permit No. TE-64144A

Applicant: Emily M. Mastrelli, San Diego, California

The applicant requests a permit amendment to take the Quino checkerspot butterfly (Euphydryas editha quino) in conjunction with survey activities throughout the range of the species in California for the purpose of enhancing the species' survival.

Permit No. TE-74377B

Applicant: Shannon E. Mindeman, San Diego, California

The applicant requests a permit amendment to take the Quino checkerspot butterfly (Euphydryas editha quino) in conjunction with survey activities throughout the range of the species in California for the purpose of enhancing the species' survival.

Permit No. TE-021929

Applicant: Sacramento Splash, Mather, California

The applicant requests a permit renewal to take (capture, handle, release, collect vouchers, and collect branchiopod cysts) the Conservancy fairy shrimp (Branchinecta conservatio), longhorn fairy shrimp (Branchinecta longiantenna), and vernal pool tadpole shrimp (Lepidurus packardi) in conjunction with survey activities in Sacramento County, California, for the purpose of enhancing the species' survival.

Permit No. TE-34132C

Applicant: U.S. Forest Service, Vallejo, California

The applicant requests a new permit to take (capture, handle, measure, take skin swabs, clip toes, insert PIT (Passive Integrated Transponder) tags, mark with VIE (Visual Implant Elastomer), transport, translocate, emergency salvage, and release) the Sierra Nevada yellow-legged frog (Rana sierrae) and mountain yellow-legged frog (northern California DPS (Rana muscosa)) in conjunction with survey and research activities throughout the range of each species in California for the purpose of enhancing the species' survival.

Permit No. TE-24603A

Applicant: Karen J. Carter, Running Springs, California

The applicant requests a permit renewal to take the Yuma Clapper rail (Yuma Ridgway's r.) (Rallus longirostris yumanensis) (R. obsoletus y.) in conjunction with survey activities throughout the range of the species in California and Nevada for the purpose of enhancing the species' survival.

Permit No. TE-082233

Applicant: Marcus C. England, Los Angeles, California

The applicant requests a permit renewal to take (locate and monitor nests; and remove brown-headed cowbird (Molothrus ater) eggs and chicks from parasitized nests) the least Bell's vireo (Vireo bellii pusillus) and take (survey for, locate and monitor nests, and remove brown-headed cowbird (Molothrus ater) eggs and chicks from parasitized nests) the southwestern willow flycatcher (Empidonax traillii extimus) in conjunction with survey and population monitoring activities throughout the range of the species in California for the purpose of enhancing the species' survival.

Permit No. TE-179036

Applicant: Cullen Wilkerson, Richmond, California

The applicant requests a permit amendment to take the California Clapper rail (California Ridgway's r.) (Rallus longirostris obsoletus) (R. obsoletus o.) in conjunction with survey activities throughout the range of the species in California for the purpose of enhancing the species' survival.

Permit No. TE-233373

Applicant: Mary Anne Flett, Point Reyes Station, California

The applicant requests a permit amendment to take the California Clapper rail (California Ridgway's r.) (Rallus longirostris obsoletus) (R. obsoletus o.) in conjunction with survey activities throughout the range of the species in California for the purpose of enhancing the species' survival.

Permit No. TE-798003

Applicant: North State Resources, Inc., Redding, California

The applicant requests a permit renewal to take (capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (by survey activities) the southwestern willow flycatcher (Empidonax traillii extimus); and take (capture, handle, and release) the California tiger salamander (Santa Barbara County and Sonoma County DPSs (Ambystoma californiense)) in conjunction with survey activities throughout the range of the species in California and Oregon for the purpose of enhancing the species' survival.

Permit No. TE-59592B

Applicant: Angela M. Johnson, Wauconda, Illinois

The applicant requests a permit amendment and renewal to take (survey for, locate and monitor nests, and remove brown-headed cowbird (Molothrus ater) eggs and chicks from parasitized nests) the southwestern willow flycatcher (Empidonax traillii extimus) and take (locate and monitor nests, and remove brown-headed cowbird (Molothrus ater) eggs and chicks from parasitized nests) the least Bell's vireo (Vireo bellii pusillus) in conjunction with survey and population monitoring activities throughout the range of the species in California, Nevada, and Arizona, for the purpose of enhancing the species' survival.

Permit No. TE-837574

Applicant: Eremico Biological Services, Weldon, California

The applicant requests a permit renewal to take (capture, band, collect blood samples, and release) the southwestern willow flycatcher (Empidonax traillii extimus) in conjunction with survey, population monitoring, and research activities throughout the range of the species in California for the purpose of enhancing the species' survival.

Permit No. TE-60149A

Applicant: California Department of Fish and Wildlife, Arcata, California

The applicant requests a permit renewal to take (capture, handle, and release) the tidewater goby (Eucyclogobius newberryi) in Humboldt County, Del Norte County, and Mendocino County, California, in conjunction with survey activities for the purpose of enhancing the species' survival.

Permit No. TE-36221C

Applicant: Jason R. Peters, Sacramento, California

The applicant requests a new permit to take (capture, handle, and release) the California tiger salamander (Santa Barbara County and Sonoma County Distinct Population Segment DPSs (Ambystoma californiense)) and take (capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-190303

Applicant: Daniel W.H. Shaw, Tahoma, California

The applicant requests a permit renewal and amendment to take (capture, handle, and release) the Sierra Nevada yellow-legged frog (Rana sierrae) and California tiger salamander (Santa Barbara County and Sonoma County DPSs (Ambystoma californiense)) in conjunction with survey activities throughout the range of the species for the purpose of enhancing the species' survival.

Permit No. TE-86811A

Applicant: Southwest Resource Management Association, Riverside, California

The applicant requests a permit amendment to take (capture, handle, release, and emergency salvage) the unarmored threespine stickleback (Gasterosteus aculeatus williamsoni) in conjunction with survey and salvage activities throughout the range of the species in California for the purpose of enhancing the species' survival.

Permit No. TE-797315

Applicant: Michael Morrison, College Station, Texas

The applicant requests a permit renewal to take (capture, handle, mark, and release) the Fresno kangaroo rat (Dipodomys nitratoides exilis) and take (capture, handle, measure, mark, collect fur samples, and release) the salt marsh harvest mouse (Reithrodontomys raviventris) in conjunction with survey and research activities throughout the range of the species in California for the purpose of enhancing the species' survival.

Permit No. TE-190302

Applicant: Mitch Siemens, Arroyo Grande, California

The applicant requests a permit renewal to take (capture, handle, and release) the California tiger salamander (Santa Barbara County and Sonoma County DPSs (Ambystoma californiense)) in conjunction with survey activities throughout the range of the species in California for the purpose of enhancing the species' survival.

Permit No. TE-053379

Applicant: Christine Tischer, Orange, California

The applicant requests a permit renewal to take the Quino checkerspot butterfly (Euphydryas editha quino) and take (capture, handle, release, collect adult vouchers, and collect branchiopod cysts) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-003269

Applicant: Robert James, San Diego, California

The applicant requests a permit renewal to take (capture, handle, and release) the Stephens' kangaroo rat (Dipodomys stephensi) and Pacific pocket mouse (Perognathus longimembris pacificus); take (capture, handle, release, collect vouchers, and collect branchiopod cysts) the San Diego fairy shrimp (Branchinecta sandiegonensis) and Riverside fairy shrimp (Streptocephalus woottoni); and take the Quino checkerspot butterfly (Euphydryas editha quino) in conjunction with survey activities throughout the range of the species in California for the purpose of enhancing the species' survival.

Permit No. TE-811615

Applicant: Cynthia Daverin, San Diego, California

The applicant requests a permit renewal to take (survey for, locate and monitor nests, and remove brown-headed cowbird (Molothrus ater) eggs and chicks from parasitized nests) the southwestern willow flycatcher (Empidonax traillii extimus); take (locate and monitor nests, and remove brown-headed cowbird (Molothrus ater) eggs and chicks from parasitized nests) the least Bell's vireo (Vireo bellii pusillus); and take the Quino checkerspot butterfly (Euphydryas editha quino) in conjunction with survey and population monitoring activities throughout the range of the species in California for the purpose of enhancing the species' survival.

Permit No. TE-074955

Applicant: Susan Scatolini, San Diego, California

The applicant requests a permit renewal to take (capture, handle, release, collect vouchers, and collect branchiopod cysts) the San Diego fairy shrimp (Branchinecta sandiegonensis) and Riverside fairy shrimp (Streptocephalus woottoni) in conjunction with survey activities within San Diego County and Imperial County, California, for the purpose of enhancing the species' survival.

Permit No. TE-74785A

Applicant: Barry Nerhus, Costa Mesa, California

The applicant requests a permit renewal and amendment to take (survey for and locate and monitor nests) the Light-Footed Clapper rail (light-footed Ridgway's r.) (Rallus longirostris levipes) (R. obsoletus l.) in conjunction with survey and population monitoring activities throughout the range of the species in California for the purpose of enhancing the species' survival.

Permit No. TE-45250C

Applicant: Griffin Brungraber, Bend, Oregon

The applicant requests a new permit to take the Quino checkerspot butterfly (Euphydryas editha quino) in conjunction with survey activities throughout the range of the species in California for the purpose of enhancing the species' survival.

Permit No. TE-45251C

Applicant: Emily Moffitt, Campbell, California

The applicant requests a new permit to take (capture, handle, and release) the California tiger salamander (Santa Barbara County and Sonoma County DPSs (Ambystoma californiense)) in conjunction with survey activities throughout the range of the species in California for the purpose of enhancing the species' survival.

Permit No. TE-195305

Applicant: Andres Aguilar, Los Angeles, California

The applicant requests a permit renewal to take (capture, handle, release, collect vouchers, and collect branchiopod cysts) the Conservancy fairy shrimp (Branchinecta conservatio), longhorn fairy shrimp (Branchinecta longiantenna), and vernal pool tadpole shrimp (Lepidurus packardi) in conjunction with survey and research activities throughout the range of the species in California for the purpose of enhancing the species' survival.

Permit No. TE-025732

Applicant: Samuel Sweet, Santa Barbara, California

The applicant requests a permit renewal to take (capture, handle, measure, mark, relocate, release, attach radio tags, collect tail tissue, swab for chytrid fungus testing, collect specimens, conduct restoration activities, and remove and euthanize hybrids) the California tiger salamander (Santa Barbara County DPS (Ambystoma californiense)) and take (capture, handle, swab for chytrid fungus testing, maintain in enclosures in-stream, release, relocate, and collect dead individuals) the arroyo toad (arroyo southwestern) (Anaxyrus californicus) in conjunction with survey and scientific research activities throughout the range of the species in California for the purpose of enhancing the species' survival.

Permit No. TE-54614A

Applicant: California Department of Fish and Wildlife, Rancho Cordova, California

The applicant requests a permit amendment and renewal to take (capture, handle, collect, photograph, tag, attach radio transmitters and radio track, mark, collect morphological data, collect parasites and tissue, conduct veterinary testing (assess reproductive condition, conduct health assessments, quarantine, test for disease and parasites), administer veterinary care, obtain genetic samples, euthanize, remove from the wild, transport, hold in captivity, captive-rear, captive-breed, release to the wild, translocate, use remote cameras, and monitor populations) the Amargosa vole (Microtus californicus scirpensis) in conjunction with survey, research, and behavior studies throughout the range of the species in California for the purpose of enhancing the species' survival.

Permit No. TE-018111

Applicant: Tenera Environmental, San Luis Obispo, California

The applicant requests a permit renewal to take (capture, handle, and release) the tidewater goby (Eucyclogobius newberryi) in conjunction with survey activities throughout the range of the species in California for the species for the purpose of enhancing the species' survival.

Permit No. TE-787037

Applicant: University of San Diego, San Diego, California

The applicant requests a permit renewal to take (capture, handle, release, collect adult vouchers, collect resting eggs, conduct genetic analysis, process vernal pool soil samples for egg identification, and culturing and hatching out of branchiopod eggs) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey and genetic research activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2017-23502 Filed 10-27-17; 8:45 am]

BILLING CODE 4333-15-P